UNITED STATES POSTAL SERVICE

Board of Governors; Sunshine Act Meeting; Notice

Board Votes To Close December 8, 2009, Meeting

At its closed session meeting on November 12, 2009, the Board of Governors of the United States Postal Service voted unanimously to close to public observation its meeting to be held on December 8, 2009, in Washington, DC, via teleconference. The Board determined that no earlier public notice was possible.

Items Considered

1. Financial Matters.

2. Strategic Issues.

3. Pricing.

4. Personnel Matters and Compensation Issues.

5. Governors' Executive Session—discussion of prior agenda items and Board Governance.

General Counsel Certification

The General Counsel of the United States Postal Service has certified that the meeting is properly closed under the Government in the Sunshine Act.

Contact Person For More Information

Requests for information about the meeting should be addressed to the Secretary of the Board, Julie S. Moore, at (202) 268-4800.

Julie S. Moore,
Secretary.

[FR Doc. E9-28587 Filed 11-24-09; 4:15 pm]

BILLING CODE 7710-12-P